DEPARTMENT OF ENERGY

Federal Energy Regulatory Commission

[Docket No. CP10-176-000]

Millennium Pipeline Company, LLC; Notice of Request Under Blanket Authorization

April 28, 2010.

Take notice that on April 23, 2010, Millenium Pipeline Company, LLC (Millennium), One Blue Hill Plaza, Seventh Floor, PO Box 1565, Pearl River, New York 10965 filed in Docket No. CP10-176-000, a prior notice request pursuant to sections 157.205 and 157.208 of the Commission's regulations under the Natural Gas Act (NGA). Millennium seeks authorization to increase the Commission-approved maximum allowable operating pressure (MAOP) on its Hickory Grove Lateral Line from 1072 pounds per square inch gage (psig) to 1200 psig. The Hickory Grove Lateral is located in Chemung County, New York and extends from Millennium's mainline facilities at a tie-in at Chambers Road near Horseheads, New York to an interconnection with the facilities of Southern Tier Transmission Company (STT) near Hickory Grove Road, in Horseheads, New York. Millennium proposes to perform these activities under its blanket certificate issued in Docket No. CP98-155-000 [97 FERC ¶ 61,292, at 62,327 (2001)], all as more fully set forth in the application which is on file with the Commission and open to public inspection.

Specifically, the facility at issue is approximately 2.6 mile, 12-inch lateral pipeline segment of Millenniums Line A-5 in Chemung County, New York, extending from Millennium's 30-inch mainline to an interconnect with STT at Hickory Grove in Horseheads, New York. The Hickory Grove Lateral was constructed in 1993 by Columbia Gas Transmission, LLC and the pipeline was originally designed, tested and qualified for an MAOP of 1236 psig in a Class Three Location under applicable Department of Transportation (DOT) regulations. The facilities were transferred to Millennium by certificate issued to Millennium in Docket No. CP98-150, et al; however, in Millenniums application the MAOP of the pipeline is listed at 1072 psig. The proposed increase to the Commission-approved MAOP of the Hickory Grove Lateral is being made to correct the apparent inconsistency between the Commission-approved MAOP and the MAOP at which Millennium intends to operate the segment. Recently, Anschulz Exploration Corporation (AEC) requested to connect certain gathering facilities to the Hickory Grove Lateral to allow a new supply of gas to flow through the Hickory Grove Lateral to Millennium's mainline system, which operates a 1200 psig. The increase in Commission-approved MAOP is required to receive local production gas, to be produced by AEC; and, increasing the Commission-approved MAOP corrects an apparent mistake in Millenniums original certificate application.

The filing may be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application may be directed to Gary A. Kruse, Vice President—General Counsel and Secretary, Millennium Pipeline Company, LLC, One Blue Hill Plaza, Seventh Floor, PO Box 1565, Pearl River, New York 10965, (845) 620-1300, or to Thomas E. Holmberg, Baker Botts LLP, 1299 Pennsylvania Avenue, NW., Washington, DC 20004, (202) 639-7700.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link. Persons unable to file electronically should submit an original and 14 copies of the protest or intervention to the Federal Energy Regulatory Commission, 888 First Street, NE., Washington, DC 20426.

Kimberly D. Bose,
Secretary.

[FR Doc. 2010-10632 Filed 5-5-10; 8:45 am]

BILLING CODE 6717-01-P